DEPARTMENT OF HOMELAND SECURITY

Coast Guard

33 CFR Part 165

[Docket Number USCG-2021-0120]

RIN 1625-AA87

Security Zones; Sabine Pass Channel, Cameron, LA

AGENCY: Coast Guard, DHS.

ACTION: Final rule.

SUMMARY: The Coast Guard is establishing a permanent security zone within a new mooring basin at the Sabine Pass LNG facility in Cameron, LA. This rule prohibits persons and vessels from entering the security zone unless authorized by the Captain of the Port, Port Arthur or a designated representative. Additionally, the Coast Guard is improving the language describing the area and correcting a geographical error.

DATES: This rule is effective September 7, 2021.

ADDRESSES: To view documents mentioned in this preamble as being available in the docket, go to https://www.regulations.gov, type USCG-2021-0120 in the search box and click “Search.” Next, in the Document Type column, select “Supporting & Related Material.”

FOR FURTHER INFORMATION CONTACT: If you have questions on this rule, call or email Mr. Scott Whalen, Marine Safety Unit Port Arthur, U.S. Coast Guard; telephone 409-719-5080, email scott.k.whalen@uscg.mil.

SUPPLEMENTARY INFORMATION:

I. Table of Abbreviations

CFR Code of Federal Regulations

COTP Captain of the Port, Port Arthur

DHS Department of Homeland Security

FR Federal Register

LNG Liquified Natural Gas

NPRM Notice of proposed rulemaking

§ Section

U.S.C. United States Code

II. Background Information and Regulatory History

On May 26, 2010 the Coast Guard published a Notice of Proposed Rulemaking (NPRM) prosposing to, among other things, establish a security zone for the Sabine Pass LNG mooring basin located in Cameron Parish, LA while LNG carriers are moored at the facility (75 FR 29695). On October 22, 2010 the Coast Guard issued an interim rule for the proposed security zone (75 FR 65235). On January 11, 2011 the Coast Guard published a final rule for the security zone (76 FR 1521).

Sabine Pass LNG is constructing a second mooring basin adjacent to the first and the COTP has determined that enhanced security measures are necessary and requires extending the existing security zone to include the new mooring basin. Therefore, the Coast Guard published a NPRM titled Security Zones; Sabine Pass Channel, Cameron, LA on June 14, 2021 (86 FR 31459). There we stated why we issued the NPRM, and invited comments on our proposed regulatory action related to this marine event. During the comment period that ended July 14, 2021, we received one comment pointing out a spelling error and advising of the need to include the horizontal datum reference in the rule.

III. Legal Authority and Need for Rule

The Coast Guard is issuing this rule under authority in 46 U.S.C. 70034 (previously 33 U.S.C. 1231). The Captain of the Port (COTP) has determined that enhanced security measures are necessary and is extending the existing security zone to include the new mooring basin.

IV. Discussion of Comments, Changes, and the Rule

As noted above, we received one comment on our NPRM published June 14, 2021 that requested we explicitly state the horizontal datum alongside the coordinates provided for each zone and correct a spelling error for “shoreward”. The Coast Guard corrected the spelling error and added the horizontal datum used for geographic reference. The Coast Guard also changed the language used to describe the georgraphic coordinates of the existing security zone for clarity and corrected an error in one of the positions. There are no other substantial changes to the regulatory text of this rule from the proposed rule in the NPRM.

This rule establishes a permanent security zone in a new mooring basin at Sabine Pass LNG located in Cameron, LA. The security zone regulations are the same as those in effect for the existing mooring basin, that is, it would exclude certain vessels from entering the basin whenever an LNG carrier is moored at the facility. No vessel or person is permitted to enter the safety zone without obtaining permission from the COTP or a designated representative.

V. Regulatory Analyses

We developed this rule after considering numerous statutes and Executive orders related to rulemaking. Below we summarize our analyses based on a number of these statutes and Executive orders, and we discuss First Amendment rights of protestors.

A. Regulatory Planning and Review

Executive Orders 12866 and 13563 direct agencies to assess the costs and benefits of available regulatory alternatives and, if regulation is necessary, to select regulatory approaches that maximize net benefits. This rule has not been designated a “significant regulatory action,” under Executive Order 12866. Accordingly, this rule has not been reviewed by the Office of Management and Budget (OMB).

This regulatory action determination is based on the limited size of the security zone and that the affected area does not hinder or delay regular vessel traffic. Certain vessels with business in the mooring basin will be permitted to enter the security zone.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard received no comments from the Small Business Administration on this rulemaking. The Coast Guard certifies under 5 U.S.C. 605(b) that this rule will not have a significant economic impact on a substantial number of small entities.

While some owners or operators of vessels intending to transit the safety zone may be small entities, for the reasons stated in section V.A above, this rule will not have a significant economic impact on any vessel owner or operator.

Under section 213(a) of the Small Business Regulatory Enforcement Fairness Act of 1996 (Pub. L. 104-121), we want to assist small entities in understanding this rule. If the rule would affect your small business, organization, or governmental jurisdiction and you have questions concerning its provisions or options for compliance, please call or email the person listed in the FOR FURTHER INFORMATION CONTACT section.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

C. Collection of Information

This rule will not call for a new collection of information under the Paperwork Reduction Act of 1995 (44 U.S.C. 3501-3520).

D. Federalism and Indian Tribal Governments

A rule has implications for federalism under Executive Order 13132, Federalism, if it has a substantial direct effect on the States, on the relationship between the National Government and the States, or on the distribution of power and responsibilities among the various levels of government. We have analyzed this rule under that Order and have determined that it is consistent with the fundamental federalism principles and preemption requirements described in Executive Order 13132.

Also, this rule does not have tribal implications under Executive Order 13175, Consultation and Coordination with Indian Tribal Governments, because it does not have a substantial direct effect on one or more Indian tribes, on the relationship between the Federal Government and Indian tribes, or on the distribution of power and responsibilities between the Federal Government and Indian tribes.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

F. Environment

We have analyzed this rule under Department of Homeland Security Directive 023-01, Rev. 1, associated implementing instructions, and Environmental Planning COMDTINST 5090.1 (series), which guide the Coast Guard in complying with the National Environmental Policy Act of 1969 (42 U.S.C. 4321-4370f), and have determined that this action is one of a category of actions that do not individually or cumulatively have a significant effect on the human environment. This rule involves regulations establishing a security zone that would prohibit entry whenever an LNG carrier is moored at the facility. It is categorically excluded from further review under paragraph L60(a) of Appendix A, Table 1 of DHS Instruction Manual 023-01-001-01, Rev. 1. A Record of Environmental Consideration supporting this determination is available in the docket. For instructions on locating the docket, see the ADDRESSES section of this preamble.

G. Protest Activities

The Coast Guard respects the First Amendment rights of protesters. Protesters are asked to call or email the person listed in the FOR FURTHER INFORMATION CONTACT section to coordinate protest activities so that your message can be received without jeopardizing the safety or security of people, places or vessels.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 46 U.S.C. 70034, 70051; 33 CFR 1.05-1, 6.04-1, 6.04-6, and 160.5; Department of Homeland Security Delegation No. 0170.1.

2. Amend § 165.819 by revising paragraph (a)(1)(ii) to read as follows:

§ 165.819 Security Zone; Sabine Bank Channel, Sabine Pass Channel and Sabine-Neches Waterway, TX.

(a) * * *

(1) * * *

(ii) Sabine Pass LNG, Cameron Parish, LA: (A) All mooring basin waters shoreward of a line connecting the following points—beginning at the shoreline in position 29°44′34.7″ N, 093°52′29″ W; then to a point at 29°44′31.4″ N, 093°52′26.4″ W; then to a point at 29°44′25.2″ N, 093°52′14.6″ W; then to the shoreline at 29°44′24.4″ N, 093°52′11.4″ W (WGS84).

(B) All mooring basin waters shoreward of a line connecting the following points—beginning at the shoreline in position 29°44′23.4″ N, 093°52′10.3″ W; then to a point at 29°44′22.3″ N, 093°52′9.8″ W; then to a point at 29°44′18″ N, 093°52′3.6″ W; then to the shoreline at 29°44′17.4″ N, 093°52′2.3″ W (WGS84).

Dated: July 30, 2021.
Molly A. Wike,
Captain, U.S. Coast Guard, Captain of the Port, Marine Safety Unit Port Arthur.

[FR Doc. 2021-16615 Filed 8-5-21; 8:45 am]

BILLING CODE 9110-04-P